DEPARTMENT OF LABOR

Mine Safety and Health Administration

[OMB Control No. 1219-0121]

Proposed Extension of Information Collection; Safety Standards for Roof Bolts in Metal and Nonmetal Mines and Underground Coal Mines

AGENCY: Mine Safety and Health Administration, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: Requested data can be provided in the desired format; reporting burden (time and financial resources) is minimized; collection instruments are clearly understood; and the impact of collection requirements on respondents can be properly assessed. Currently, the Mine Safety and Health Administration (MSHA) is soliciting comments on the information collection for Safety Standards for Roof Bolts in Metal and Nonmetal Mines and Underground Coal Mines.

DATES: All comments must be received on or before November 1, 2021.

ADDRESSES: You may submit comment as follows. Please note that late, untimely filed comments will not be considered.

Electronic Submissions: Submit electronic comments in the following way:

• Federal eRulemaking Portal: https://www.regulations.gov. Follow the instructions for submitting comments for docket number MSHA-2021-0027. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-MSHA, Office of Standards, Regulations, and Variances, 201 12th Street South, Suite 4E401, Arlington, VA 22202-5452.

• MSHA will post your comment as well as any attachments, except for information submitted and marked as confidential, in the docket at https://www.regulations.gov.

FOR FURTHER INFORMATION CONTACT: Jessica Senk, Director, Office of Standards, Regulations, and Variances, MSHA, at MSHA.information.collections@dol.gov (email); (202) 693-9440 (voice); or (202) 693-9441 (facsimile).

SUPPLEMENTARY INFORMATION:

I. Background

Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal and metal and nonmetal mines.

Accidents involving falls of roof, face, and rib in underground mines or falls of highwall in surface mines, historically, have been among the leading causes of miners' injuries and deaths. Prevention or control of falls of roof, face, and rib is uniquely difficult because of the variety of conditions encountered in mines that can affect the stability of various types of strata and the changing nature of the forces affecting ground stability at any given operation and time. Roof and rock bolts and accessories are integral parts of ground control systems and are used to prevent the fall of roof, face, and rib. Advancements in the technology of roof and rock bolts and accessories have aided in reducing the hazards associated with falls of roof, face, and rib.

The American Society for Testing and Materials (ASTM) publication “Standard Specification for Roof and Rock Bolts and Accessories” is a consensus standard used throughout the United States. It contains specifications for the chemical, mechanical, and dimensional requirements for roof and rock bolts and accessories used for ground support systems. The ASTM standard for roof and rock bolts and accessories is updated periodically to reflect advances in technology.

Title 30 Code of Federal Regulations, parts 56 and 57 Subpart B-Ground Control, sections 56.3203 and 57.3203, and part 75 Subpart C-Roof Support, section 75.204, address the quality of roof and rock bolts and accessories and their installation. MSHA's objective in these regulations is to ensure the quality and effectiveness of roof and rock bolts and accessories and, as technology evolves, to allow for the use of new materials which are proven to be reliable and effective in controlling the mine roof, face, and rib.

Title 30 CFR 56.3203(a), 57.3203(a), and 75.204(a) require: (1) That mine operators obtain a certification from the manufacturer that roof and rock bolts and accessories are manufactured and tested in accordance with the applicable ASTM specifications, and (2) that the manufacturer's certification is made available to an authorized representative of the Secretary.

Title 30 CFR 56.3203(h) and 57.3203(h) require that if the mine operator uses other tensioned and non-tensioned fixtures and accessories for ground control that are not addressed by the applicable ASTM standard listed in sections 56.3203(a) and 57.3203(a), test methods must be established by the mine operator and used to verify their ground control effectiveness. Title 30 CFR 56.3203(i) and 57.3203(i) require the mine operator to certify that the tests developed under sections 56.3203(h) and 57.3203(h) were conducted and such certifications be made available to an authorized representative of the Secretary.

Title 30 CFR 75.204(f)(6) requires that the mine operator or a person designated by the operator certify by signature and date that the measurements required by paragraph (f)(5) of this section have been made. Paragraph (f)(5) requires that in working places from which coal is produced during any portion of a 24-hour period, the actual torque or tension on at least 1 out of every 10 previously installed mechanically anchored tensioned roof bolts is measured from the outby corner of the last open crosscut to the face in each advancing section. This certification shall be maintained for at least 1 year and shall be made available to an authorized representative of the Secretary and representatives of miners.

The certification requirements are necessary to ensure compliance with the requirements for roof and rock bolts and accessories.

II. Desired Focus of Comments

MSHA is soliciting comments concerning the proposed information collection related to Safety Standards for Roof Bolts in Metal and Nonmetal Mines and Underground Coal Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and at DOL-MSHA located at 201 12th Street South, Suite 4E401, Arlington, VA 22202-5452. Questions about the information collection requirements may be directed to the person listed in the FOR FURTHER INFORMATION section of this notice.

III. Current Actions

This information collection request concerns provisions for Safety Standards for Roof Bolts in Metal and Nonmetal Mines and Underground Coal Mines. MSHA has updated the data with respect to the number of respondents, responses, burden hours, and burden costs supporting this information collection request from the previous information collection request.

Type of Review: Extension, without change, of a currently approved collection.

Agency: Mine Safety and Health Administration.

OMB Number: 1219-0121.

Affected Public: Business or other for-profit.

Number of Respondents: 345.

Frequency: On occasion.

Number of Responses: 43,558.

Annual Burden Hours: 420 hours.

Annual Respondent or Recordkeeper Cost: $0.

Comments submitted in response to this notice will be summarized in the request for Office of Management and Budget approval of the proposed information collection request; they will become a matter of public record and will be available at https://www.reginfo.gov.

Jessica Senk,
Certifying Officer.

[FR Doc. 2021-18712 Filed 8-30-21; 8:45 am]

BILLING CODE 4510-43-P